DEPARTMENT OF THE INTERIOR

Fish and Wildlife Service

[FWS-R8-ES-2017-N165; FXES11130800000-178-FF08E00000]

Endangered Species Recovery Permit Applications

AGENCY: Fish and Wildlife Service, Interior.

ACTION: Notice of receipt of permit applications; request for comments.

SUMMARY: We, the U.S. Fish and Wildlife Service, invite the public to comment on applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before April 12, 2018.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-168927

Applicant: Bradford Hollingsworth, San Diego, California.

The applicant requests a permit renewal to take (harass by survey, capture, handle, photograph, and release) the arroyo toad (arroyo southwestern) (Anaxyrus californicus) in conjunction with survey and scientific research activities throughout the range of the species in California for the purpose of enhancing the species' survival.

Permit No. TE-58829C

Applicant: Benjamin Ruiz, Bakersfield, California.

The applicant requests a new permit to take (harass by survey, capture, handle, and release) the Fresno kangaroo rat (Dipodomys nitratoides exilis), Tipton kangaroo rat (Dipodomys nitratoides nitratoides), and giant kangaroo rat (Dipodomys ingens) in conjunction with survey activities throughout the range of the species in California for the purpose of enhancing the species' survival.

Permit No. TE-58844C

Applicant: Phillip Peters, San Francisco, California.

The applicant requests a permit amendment to take (harass by survey) the California Clapper rail (California Ridgway's rail) the California Ridgway's rail, formerly known as the California Clapper rail (Rallus longirostris obsoletus, or R. obsoletus o.) in conjunction with survey activities throughout the range of the species in California for the purpose of enhancing the species' survival.

Permit No. TE-58847C

Applicant: Steven Manley, San Diego, California.

The applicant requests a new permit to take (harass by survey, locate and monitor nests, capture, band, and release) the California least tern (Sternula antillarum browni) (Sterna a. browni) in conjunction with survey, population monitoring, and research activities throughout the range of the species for the purpose of enhancing the species' survival.

Permit No. TE-221295

Applicant: Angelica Mendoza, Fontana, California.

The applicant requests a permit renewal to take (pursuit by survey) the Quino checkerspot butterfly (Euphydryas editha quino) in conjunction with survey activities throughout the range of the species for the purpose of enhancing the species' survival.

Permit No. TE-115370

Applicant: Gage Dayton, Santa Cruz, California.

The applicant requests a permit renewal and amendment to take (harass by survey, capture, handle, mark, collect tissues samples, photograph, release, collect a limited number of voucher specimens, and conduct habitat restoration for) the California tiger salamander (Santa Barbara County and Sonoma County Distinct Population Segment (DPS)) (Ambystoma californiense) and take (harass by survey, capture, handle, mark, photograph, release, collect a limited number of voucher specimens, and conduct habitat restoration for) the Santa Cruz long-toed salamander (Ambystoma macrodactylum croceum) in conjunction with survey, population monitoring, genetic sampling, research, and habitat restoration activities throughout the range of the species in California for the purpose of enhancing the species' survival.

Permit No. TE-54716A

Applicant: Christine Harvey, San Diego, California.

The applicant requests a permit renewal and amendment to take (locate and monitor nests) the least Bell's vireo (Vireo bellii pusillus) and take (harass by survey, and locate and monitor nests) the southwestern willow flycatcher (Empidonax traillii extimus) in conjunction with survey and population monitoring activities throughout the range of the species in California for the purpose of enhancing the species' survival.

Permit No. TE-200339

Applicant: Sarah Foster, Sacramento, California.

The applicant requests a permit renewal to take (harass by survey) the California Clapper rail (California Ridgway's rail) (Rallus longirostris obsoletus) (R. obsoletus o.) and take (harass by survey, capture, handle, and release) the California tiger salamander (Santa Barbara County and Sonoma County Distinct Population Segment (DPS)) (Ambystoma californiense) in conjunction with survey activities throughout the range of the species in California for the purpose of enhancing the species' survival.

Permit No. TE-022649

Applicant: Joseph Messin, Temecula, California.

The applicant requests a permit renewal to take (harass by survey, capture, handle, mark, and release) the Stephens' kangaroo rat (Dipodomys stephensi) in conjunction with survey and research activities throughout the range of the species in California for the purpose of enhancing the species' survival.

Permit No. TE-92799B

Applicant: Karl Fairchild, Fullerton, California.

The applicant requests a permit amendment to take (harass by survey) the southwestern willow flycatcher (Empidonax traillii extimus) in conjunction with survey activities throughout the range of the species in California for the purpose of enhancing the species' survival.

Permit No. TE-70880B

Applicant: Michael Hobbs, San Jose, California.

The applicant requests a permit amendment to take (harass by survey, capture, handle, and release) the California tiger salamander (Santa Barbara County and Sonoma County Distinct Population Segment (DPS)) (Ambystoma californiense) in conjunction with survey activities throughout the range of the species in California for the purpose of enhancing the species' survival.

Permit No. TE-59233C

Applicant: University of California Merced, Merced, California.

The applicant requests a new permit to take (harass by survey, capture, handle, release, collect vouchers, and collect branchiopod cysts) the Conservancy fairy shrimp (Branchinecta conservatio) and vernal pool tadpole shrimp (Lepidurus packardi) in conjunction with survey and educational activities in Merced County, California, for the purpose of enhancing the species' survival.

Permit No. TE-59234C

Applicant: Advanced Solutions for Earth's Future, Los Angeles, California.

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-053598

Applicant: Nicole Kimball, Spring Valley, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (pursuit by survey) the Quino checkerspot butterfly (Euphydryas editha quino) in conjunction with survey activities throughout the range of the species in California for the purpose of enhancing the species' survival.

Permit No. TE-192702

Applicant: Jaime Kneitel, Sacramento, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and research activities throughout the range of the species in California for the purpose of enhancing the species' survival.

Permit No. TE-808242

Applicant: Scott Cameron, Palmdale, California.

The applicant requests a permit renewal to take (harass by survey, capture, handle, and release) the Pacific pocket mouse (Perognathus longimembris pacificus) and arroyo toad (arroyo southwestern) (Anaxyrus californicus) and take (pursue by survey) the Delhi Sands flower-loving fly (Rhaphiomidas terminatus abdominalis) in conjunction with survey activities throughout the range of the species in California for the purpose of enhancing the species' survival.

Permit No. TE-72044A

Applicant: Carl Demetropoulos, Thousand Oaks, California.

The applicant requests a permit amendment to take (harass by survey, capture, mark, and release) the Mohave tui chub (Gila bicolor mohavensis), in conjunction with survey and population monitoring activities on Naval Air Weapons Station China Lake, in California, for the purpose of enhancing the species' survival.

Permit No. TE-02737B

Applicant: Susan Dewar, Rocklin, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-59680C

Applicant: Thea Wang, Los Angeles, California.

The applicant requests a new permit to take (harass by survey, capture, handle, and release) the San Bernardino Merriam's kangaroo rat (Dipodomys merriami parvus), Stephens' kangaroo rat (Dipodomys stephensi), and Pacific pocket mouse (Perognathus longimembris pacificus) in conjunction with survey activities throughout the range of the species in California for the purpose of enhancing the species' survival.

Permit No. TE-095896

Applicant: Phillip Richards, Laguna Hills, California.

The applicant requests a permit renewal to take (harass by survey, capture, handle, and release) the San Bernardino Merriam's kangaroo rat (Dipodomys merriami parvus), Stephens' kangaroo rat (Dipodomys stephensi), and Pacific pocket mouse (Perognathus longimembris pacificus) in conjunction with survey activities throughout the range of the species in California for the purpose of enhancing the species' survival.

Permit No. TE-59924C

Applicant: Land Trust of Santa Cruz County, Santa Cruz, California.

The applicant requests a new permit to take (harass by survey, capture, and release) the Ohlone tiger beetle (Cicindela ohlone) in conjunction with survey and habitat enhancement activities in Santa Cruz County, California, for the purpose of enhancing the species' survival.

Permit No. TE-839213

Applicant: David Muth, Martinez, California.

The applicant requests a permit renewal and amendment to take (harass by survey, capture, handle, and conduct instructional workshops involving field survey methods) the California tiger salamander (Santa Barbara County and Sonoma County Distinct Population Segment (DPS)) (Ambystoma californiense) and take (harass by survey, capture, handle, release, collect vouchers, collect branchiopod cysts, process vernal pool soil samples, and conduct instructional workshops involving field survey methods) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and educational activities throughout the range of the species in California for the purpose of enhancing the species' survival.

Permit No. TE-797234

Applicant: LSA Associates, Point Richmond, California.

The applicant requests a permit renewal to take (harass by survey, capture, handle, release, collect vouchers, collect branchiopod cysts, and process vernal pool soil samples) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the San Francisco garter snake (Thamnophis sirtalis tetrataenia) and California tiger salamander (Santa Barbara County and Sonoma County Distinct Population Segment (DPS)) (Ambystoma californiense); and take (harass by survey) the California Clapper rail (California Ridgway's rail) (Rallus longirostris obsoletus) (R. obsoletus o.) in conjunction with survey activities throughout the range of the species in California for the purpose of enhancing the species' survival.

Permit No. TE-028223

Applicant: Jonathan Stead, Oakland, California.

The applicant requests a permit renewal and amendment to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California and Oregon for the purpose of enhancing the species' survival.

Permit No. TE-203081

Applicant: John Labonte, Goleta, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, take tissue samples, remove hybrids from the wild, temporarily keep hybrids in captivity, euthanize hybrids, and release) the California tiger salamander (Santa Barbara County Distinct Population Segment) (Ambystoma californiense); and take (pursuit by survey) the El Segundo blue butterfly (Euphilotes battoides allyni) in conjunction with survey and research activities throughout the range of the species in California for the purpose of enhancing the species' survival.

Permit No. TE-207873

Applicant: Carol Thompson, Riverside, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by locating and monitoring nests) the least Bell's vireo (Vireo bellii pusillus); and take (harass by survey, capture, handle, and release) the San Bernardino Merriam's kangaroo rat (Dipodomys merriami parvus) and Stephens' kangaroo rat (Dipodomys stephensi) in conjunction with survey activities throughout the range of the species in California for the purpose of enhancing the species' survival.

Permit No. TE-60358C

Applicant: California Department of Fish and Wildlife, San Diego, California.

The applicant requests a new permit to take (harass by survey, capture, handle, release, collect vouchers, and collect branchiopod cysts) the San Diego fairy shrimp (Branchinecta sandiegonensis), and Riverside fairy shrimp (Streptocephalus woottoni) in conjunction with survey activities throughout the range of the species in California for the purpose of enhancing the species' survival.

Permit No. TE-083348

Applicant: San Bernardino County Department of Public Works, San Bernardino, California.

The applicant requests a permit renewal to take (harass by survey, capture, handle, and release) the San Bernardino Merriam's kangaroo rat (Dipodomys merriami parvus) and take (harass by survey) the southwestern willow flycatcher (Empidonax traillii extimus) in conjunction with survey activities in San Bernardino County, California, for the purpose of enhancing the species' survival.

Permit No. TE-53771B

Applicant: Erin Bergman, La Mesa, California.

The applicant requests a permit amendment and renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (pursuit by survey) the Quino checkerspot butterfly (Euphydryas editha quino) and mission blue butterfly (Icaricia icarioides missionensis); and take (harass by survey, capture, handle, release) the Casey's june beetle (Dinacoma caseyi) in conjunction with survey activities throughout the range of the species in California for the purpose of enhancing the species' survival.

Permit No. TE-091857

Applicant: Denise Duffy and Associates, Inc., Monterey, California.

The applicant requests a permit renewal and amendment to take (harass by survey, capture, handle, take tissue samples, conduct habitat restoration for, and release) the California tiger salamander (Santa Barbara County and Sonoma County Distinct Population Segment (DPS)) (Ambystoma californiense) in conjunction with survey, research, and habitat enhancement activities throughout the range of the species in California for the purpose of enhancing the species' survival.

Permit No. TE-837308

Applicant: John Konecny, Valley Center, California.

The applicant requests a permit renewal to take (harass by locating and monitoring nests, capture, handle, band, and remove brown-headed cowbird (Molothrus ater) eggs and chicks from parasitized nests) the least Bell's vireo (Vireo bellii pusillus), take (harass by survey, locate and monitor nests, capture, handle, band, and remove brown-headed cowbird (Molothrus ater) eggs and chicks from parasitized nests) the southwestern willow flycatcher (Empidonax traillii extimus), take (harass by survey) the light-footed clapper rail (light-footed Ridgway's rail) (Rallus longirostris levipes) (R. obsoletus l.) and Yuma clapper rail (Yuma Ridgway's rail) (Rallus longirostris yumanensis) (R. obsoletus y.), take (harass by survey, locate and monitor nests, capture, handle, and band) the California least tern (Sternula antillarum browni) (Sterna a. browni), and take (harass by survey, capture, handle, and release) the arroyo toad (arroyo southwestern) (Anaxyrus californicus) in conjunction with survey and population monitoring activities throughout the range of the species in California and Nevada for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Karen A. Jensen,
Acting Regional Director, Pacific Southwest Region, Sacramento, California.

[FR Doc. 2018-04959 Filed 3-12-18; 8:45 am]

BILLING CODE 4333-15-P